DEPARTMENT OF JUSTICE

Antitrust Division

Notice Pursuant to the National Cooperative Research and Production Act of 1993—Southwest Research Institute (“SwRI”): Advanced Reciprocating Engine Systems (“ARES”)

In Notice document 99-13292 appearing on page 28521 in the issue of Wednesday, May 26, 1999, make the following corrections: In the second column, heading of Notice, fifth line, and in the first paragraph, seventh line, “Reciprocal” should read “Reciprocating”; in the second column, first paragraph, fifth line, “§ 301” should read “4301”; in the third column, after the fourth line of the first paragraph, the following two paragraphs should be added: “This program is also funded in part by the United States Department of Energy under government Contract No. DAAE 07-95-C-R081-PS013.”

“Membership in this program remains open, and Southwest Research Institute (“SwRI”): Advanced Reciprocating Engine Systems intends to file additional written notification disclosing all changes in membership or planned activities.”

Constance K. Robinson,
Director of Operations, Antitrust Division.

[FR Doc. 00-20889 Filed 8-16-00; 8:45 am]

BILLING CODE 4410-11-M